DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Shuang-Qing Zhang, Ph.D., Texas Tech University Health Sciences Center: Based on the report of an investigation conducted by the Texas Tech University Health Sciences Center (TTUHSC) and additional analysis conducted by ORI in its oversight review, ORI found that Dr. Shuang-Qing Zhang, former Postdoctoral Researcher, Department of Pharmaceutical Sciences, TTUHSC, engaged in research misconduct in research supported by National Institute of General Medical Sciences (NIGMS), National Institutes of Health (NIH), grant R01 GM069869.

ORI found that Respondent engaged in research misconduct by the falsification and fabrication of plagiarized data that were included in the publication: Zhang, S.Q. & Mehavr, R. “Determination of dextra-methylprednisolone conjugate with glycine linker in rat plasma and liver by high-performance liquid chromatography and its application in pharmacokinetics.” Biomed. Chromatogr. 24(4):351-357, 2010 (hereafter the “BC 2010 article”). Specifically, ORI found that the Respondent:

• Falsified Figures 2(c) and 3(c) of the BC 2010 article by misrepresenting HPLC data that he had plagiarized, originally generated prior to the Respondent's arrival in the laboratory by a former postdoctoral researcher; in Figure 2(c), the Respondent claimed that the HPLC chromatogram was of a “plasma sample obtained 12 h after intravenous injection of DMP to rats at a single dose of 5 mg/kg,” while the actual chromatogram was of a calibration test of 1 μg/ml of DMP added to rat plasma, and similarly in Figure 3(c), the Respondent claimed that the HPLC chromatogram was of a “liver homogenate obtained 3 h after intravenous dose of DMP at a dose of 5 mg/kg,” while the actual chromatogram was of a calibration test of 2 μg/ml DMP added to rat liver homogenate.

• Falsified and fabricated Figure 4 of the BC 2010 article; in the top panel, the Respondent reported the measurement of DMP concentrations in plasma samples of three rats after a single injection of 5 mg/kg DMP while the actual data that he had plagiarized, originally generated prior to the Respondent's arrival in the laboratory by a former postdoctoral researcher, was from a single rat. In the bottom panel, the Respondent reported the measurement of DMP concentrations in liver samples obtained from three rats at 1, 30, 90, 180, 300, and 720 minutes after a single injection of 5 mg/kg DMP, requiring a total of 18 rats, while the actual data that he had plagiarized, originally generated prior to the Respondent's arrival in the laboratory by a former postdoctoral researcher, was from plasma samples from a single rat, and the error bars for both panels were fabricated.

Dr. Zhang has entered into a Voluntary Settlement Agreement and has voluntarily agreed:

(1) To have his research supervised for a period of three (3) years; Respondent voluntarily agrees that within sixty (60) days of the effective date of the Agreement, any institution that submits an application for PHS support for a research project on which the Respondent's participation is proposed or that uses the Respondent in any capacity on PHS supported research, or that submits a report of PHS-funded research in which the Respondent is involved, must concurrently submit a plan for supervision of the Respondent's research to ORI for approval; Respondent agrees that he will not participate in any PHS-supported research after sixty (60) days from the effective date of the Agreement until an appropriate supervision plan is submitted to ORI; the supervision plan must be designed to ensure the scientific integrity of the Respondent's research contribution; and

(2) to exclude himself voluntarily from serving in any advisory capacity to PHS including, but not limited to, service on any PHS advisory committee, board, and/or peer review committee, or as a consultant for a period of three (3) years, beginning on December 4, 2012.

FOR FURTHER INFORMATION CONTACT: Director, Office of Research Integrity, 1101 Wootton Parkway, Suite 750, Rockville, MD 20852,(240) 453-8800.

David E. Wright,
Director, Office of Research Integrity.

[FR Doc. 2012-31287 Filed 12-27-12; 8:45 am]

BILLING CODE 4150-31-P